DEPARTMENT OF VETERANS AFFAIRS

Notice of Plans for Department of Veterans Affairs to Assess Exposures and Conditions of Interest for Veterans Who Served At Karshi-Khanabad Air Base and To Solicit Public Comment

AGENCY: Department of Veterans Affairs.

ACTION: Notice.

SUMMARY: The Department of Veterans Affairs (VA) announces that it plans to conduct an assessment of scientific literature and historical claims data to determine whether there is an association between military environmental exposure to toxic substances related to military service at Camp Stronghold Freedom in Karshi-Khanabad (K2) in Uzbekistan from 2001 to 2005 and medical conditions. VA entered into an agreement with the Center for Disease Control and Prevention's Agency for Toxic Substances and Disease Registry and published a Report to Congress in 2022 that identified the known health consequences associated with the identified toxic substances, chemicals, and airborne hazards at K2. As part of a continuing effort to assess the health risks that may be associated with military service at K2, VA is soliciting public comment on environmental exposures at K2 and medical conditions developed by Veterans who served there. This notice provides an opportunity for Veterans, caregivers, survivors, and the public to share relevant information with VA to inform decisions regarding presumptive benefits that could impact the roughly 16,000 Veterans who served at K2.

DATES: Comments must be received on or before December 27, 2024.

ADDRESSES: Comments must be submitted through www.regulations.gov. Except as provided below, comments received before the close of the comment period will be available as soon as possible after they have been received at www.regulations.gov for public viewing, inspection, or copying, including any personally identifiable or confidential business information that is included in a comment. VA will not post public comments that make threats to individuals or institutions or suggest that the commenter will take actions to harm an individual. VA encourages individuals not to submit duplicative comments. We will post comments from multiple unique commenters even if the content is identical or nearly identical to other comments. Any public comment received after the comment period's closing date is considered late and will not be considered in any potential future rulemaking.

FOR FURTHER INFORMATION CONTACT: Peter D. Rumm, M.D., MPH, Director of Policy, Health Outcomes Military Exposures, Veterans Health Administration, Department of Veterans Affairs, 810 Vermont Avenue NW, Washington, DC 20420, at 202-461-7297. This is not a toll-free number.

SUPPLEMENTARY INFORMATION: Camp Stronghold Freedom was established at a former Soviet Air Base in K2 located in Southwest Uzbekistan in October 2001 and occupied by U.S. forces through the middle of 2005. During this period, several environmental site surveys were conducted by the Department of Defense (DOD) to assess contaminants that could impact the operational readiness of U.S. military operations and the safety of U.S. forces that deployed to K2. These surveys identified several contaminants, such as dust and particulate matter, underground jet fuel plumes, surface dirt with traces of asbestos, depleted uranium, benzene, chromium, and others. The Public Health website of the Defense Health Agency of the DOD lists contaminants of concern it identified at K2 [1].

Since 2021, VA has been assessing the potential health effects, including respiratory conditions and cancers, among K2 Veterans. Section 2010 of the Johnny Isakson and David P. Roe, M.D. Veterans Health Care and Benefits Improvement Act of 2020, Public Law 116-315 (the Isakson and Roe Act) [2], directed VA to engage the Center for Disease Control and Prevention's Agency for Toxic Substances and Disease Registry to describe the known health effects associated with the toxic substances, chemicals, airborne hazards, and other substances DOD identified at K2. This effort has been completed, and a report was submitted to Congress in January 2022, which documented the DOD identified contaminants of concern, medium of exposure, along with the potential cancer and noncancer health effects. The findings from this report can be found on VA's K2 website [3]. The Department of Defense has also studied the mortality among K2 Service members and found that a more in-depth study of health issues is necessary [4]. Section 2010 of the Isakson and Roe Act also directed VA to assess the health effects associated with deployment to K2, with a final report due to Congress no later than 2030 [2]. VA created a public health surveillance program to address this requirement. Analyses are underway and data are updated annually on all K2 Veterans to allow VA to address new information on adverse health outcomes and health concerns of veterans as they become known.

The purpose of this Notice is to provide the K2 community (K2 Veterans, their caregivers, and their survivors) and the broader public the opportunity to share relevant information for VA to determine if VA should recognize the unique environmental exposures (individually and in combination) and medical conditions as presumptive based on a Veteran's service at K2. VA encourages the K2 community and broader public to submit thoughts, recommendations, and requests regarding the exposures and health conditions they feel are related to K2 service and warrant specific consideration by VA as a presumptive condition. VA also invites the public to submit information, evidence, and suggestions that may help VA assess potential exposures at K2 and health effects that may be associated with such exposures.

In accordance with 38 U.S.C. 1172, as created by section 202 of the Sergeant First Class Heath Robinson Honoring our Promise to Address Comprehensive Toxics Act of 2022 (PACT Act), VA is publishing this notice about its planned scientific assessment of the possibility of a relationship between all medical conditions and military environmental exposures related to service at Camp Stronghold Freedom in K2 from 2001 to 2005. Pursuant to section 202, the VA Secretary must determine whether to establish or remove presumptions for service connections based on military environmental exposure and the evaluation of adverse health outcomes. VA's procedure includes issuing a public notice regarding reviews, soliciting public comment, and recommendations for corrections to the Secretary from the working group subject matter experts to better reflect Veterans and dependents. Here, in recognition of the unique exposure environment at K2, Secretary McDonough directed a PACT Act presumptive process to formally solicit stakeholder input and demonstrate the rigor VA continues to apply to important questions concerning the contaminants present at K2 and the conditions that K2 Veterans developed following service there.

In accordance with 38 U.S.C. 1119 and 1120, as created by the PACT Act, Uzbekistan is included as an eligible country covered under the PACT Act for certain presumptions of exposure and service connection. Thus, K2 Veterans are eligible for hundreds of individual presumptive conditions encompassed by the 23 disease categories designated under this landmark legislation [5]. Additionally, K2 Veterans are eligible to receive health care from the Veterans Health Administration, regardless of whether they have filed a claim for disability [6]. VA encourages all K2 Veterans to register for health care and encourages all K2 Veterans and their survivors to submit a claim for any adverse health outcome, even if not covered under the PACT Act, that they feel is related to their military service at K2 or elsewhere.

Signing Authority

Denis McDonough, Secretary of Veterans Affairs, signed and approved this document on November 15, 2024, and authorized the undersigned to sign and submit the document to the Office of the Federal Register for publication electronically as an official document of the Department of Veterans Affairs.

Jeffrey M. Martin,
Assistant Director, Office of Regulation Policy & Management, Office of General Counsel, Department of Veterans Affairs.

References

1. Karshi-Khanabad Airbase Exposures, (2024). https://ph.health.mil/topics/envirohealth/hrasm/Pages/K2-Airbase-Exposures.aspx

2. Johnny Isakson and David P. Roe, M.D. Veterans Health Care and Benefits Improvement Act of 2020, Public Law 116-315, § 2010. https://www.congress.gov/116/plaws/publ315/PLAW-116publ315.pdf

3. Karshi-Khanabad (K2) Air Base in Uzbekistan Potential Historical Contaminants of Concern (COCs) (2022). https://www.publichealth.va.gov/docs/exposures/K2_Contaminants.pdf#.

4. Environmental Hazards Study: Mortality Among U.S. Service Members Deployed to Karshi-Khanabad Air Base, Uzbekistan (2024). https://health.mil/Military-Health-Topics/Health-Readiness/Environmental-Exposures/Environmental-Hazards-Study-K2

5. Exposure to Burn Pits and Other Specific Environmental Hazards (2024). https://www.va.gov/disability/eligibility/hazardous-materials-exposure/specific-environmental-hazards/

6. Eligibility for VA Health Care (2024). Eligibility For VA Health Care | Veterans Affairs.

[FR Doc. 2024-27833 Filed 11-26-24; 8:45 am]

BILLING CODE 8320-01-P